FEDERAL DEPOSIT INSURANCE CORPORATION

[OMB No. 3064-0163]

Agency Information Collection Activities: Proposed Collection Renewal; Comment Request

AGENCY: Federal Deposit Insurance Corporation (FDIC).

ACTION: Notice and request for comment.

SUMMARY: The FDIC, as part of its obligations under the Paperwork Reduction Act of 1995 (PRA), invites the general public and other Federal agencies to take this opportunity to comment on the renewal of the existing information collections described below (OMB Control No. 3064-0163).

DATES: Comments must be submitted on or before May 24, 2024.

ADDRESSES: Interested parties are invited to submit written comments to the FDIC by any of the following methods:

• Agency Website: https://www.fdic.gov/resources/regulations/federal-register-publications/.

• Email: comments@fdic.gov. Include the name and number of the collection in the subject line of the message.

• Mail: Manny Cabeza (202-898-3767), Regulatory Counsel, MB-3128, Federal Deposit Insurance Corporation, 550 17th Street NW, Washington, DC 20429.

• Hand Delivery: Comments may be hand-delivered to the guard station at the rear of the 17th Street NW building (located on F Street NW), on business days between 7:00 a.m. and 5:00 p.m.

All comments should refer to the relevant OMB control number. A copy of the comments may also be submitted to the OMB desk officer for the FDIC: Office of Information and Regulatory Affairs, Office of Management and Budget, New Executive Office Building, Washington, DC 20503.

FOR FURTHER INFORMATION CONTACT: Manny Cabeza, Regulatory Counsel, 202-898-3767, mcabeza@fdic.gov, MB-3128, Federal Deposit Insurance Corporation, 550 17th Street NW, Washington, DC 20429.

SUPPLEMENTARY INFORMATION:

Proposal To Renew the Following Currently Approved Collection of Information

1. Title: Qualified Financial Contracts Part 371.

OMB Number: 3064-0163.

Forms: None.

Affected Public: State non-member banks and savings associations.

Burden Estimate:

Table 1—Summary of Estimated Annual Burden
[OMB No. 3064-0163]
Information collection (IC) (obligation to respond) | Type of burden (frequency of response) | Number of respondents | Number of responses per respondent | Time per response (HH:MM) | Annual burden (hours)
1. Full Scope Entities, Implementation (Mandatory) | Recordkeeping (Annual) | 1 | 1 | 6,000:00 | 6,000
2. Full Scope Entities, Ongoing (Mandatory) | Recordkeeping (Annual) | 11 | 1 | 250:00 | 2,750
3. Limited Scope Entities, Implementation (Mandatory) | Recordkeeping (Annual) | 3 | 1 | 23:30 | 71
4. Limited Scope Entities, Ongoing (Mandatory) | Recordkeeping (Annual) | 10 | 1 | 11:30 | 115
5. Reporting Requirements for part 371 (Mandatory) | Reporting (Annual) | 4 | 1 | 6:00 | 24
Total Annual Burden (Hours) |  |  |  |  | 8,960
Source: FDIC.

General Description of Collection: This collection consists of recordkeeping requirements for qualified financial contracts (QFCs) held by insured depository institutions in troubled condition. There is no change in the methodology or substance of this information collection. The decrease in the estimated annual burden (from 10,250 hours in 2021 to 8,960 hours currently) is due to the decline in the estimated number of limited scope entities covered by Part 371.

Request for Comment

Comments are invited on: (a) Whether the collections of information are necessary for the proper performance of the FDIC's functions, including whether the information has practical utility; (b) the accuracy of the estimates of the burden of the information collections, including the validity of the methodology and assumptions used; (c) ways to enhance the quality, utility, and clarity of the information to be collected; and (d) ways to minimize the burden of the collections of information on respondents, including through the use of automated collection techniques or other forms of information technology. All comments will become a matter of public record.

Federal Deposit Insurance Corporation.
Dated at Washington, DC, on March 20, 2024.
James P. Sheesley,
Assistant Executive Secretary.

[FR Doc. 2024-06257 Filed 3-22-24; 8:45 am]

BILLING CODE 6714-01-P